DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 26, 2001.

Interested persons are invited to submit written comments regarding the subject matter of the investigations to the Director, Division of Trade Adjustment Assistance, at the address shown below, not later than April 26, 2001.

The petitions filed in this case are available for inspection at the Office of the Director, Division of Trade Adjustment Assistance, Employment and Training Administration, U.S. Department of Labor, Room C-5311, 200 Constitution Avenue, NW., Washington, DC 20210.

Signed at Washington, DC this 12th day of March, 2001.
Edward A. Tomchick,
Director, Division of Trade Adjustment Assistance.

Appendix—Petitions Instituted On 03/12/2001

TA-W | Subject firm (petitioners) | Location | Date of petition | Product(s)
38,790 | Wilkins Industries, (Co.) | McRae, GA | 03/02/2001 | Ladies' Jeans.
38,791 | Sierra Pacific, Industries (WCIW) | Loyalton, CA | 02/23/2001 | Lumber.
38,792 | Stitches, Inc (Co.) | Gamaliel, KY | 02/26/2001 | Mens' Ladies' & Childrens' Apparel.
38,793 | U.S. Intec—Permaglas (Wkrs) | Corvallis, OR | 02/26/2001 | Roofing Materials.
38,794 | Eric Scott Leathers (Wkrs) | Ste Genevieve, MO | 01/09/2001 | Time Management Binders, Checkbook Cover.
38,795 | Donnkenny Apparel (Co.) | Wytheville, VA | 02/22/2001 | Ladies' Sportswear.
38,796 | IEC Electronics (Co.) | Edinburg, TX | 03/02/2001 | Printed Circuit Boards.
38,797 | Lehigh Coal & Navigation (UMWA) | Tamaqua, PA | 02/26/2001 | Anthracite Coal, Coke, Silt.
38,798 | PTC Alliance (USWA) | Jane Lew, WV | 02/20/2001 | Steel Tubing.
38,799 | Dana Spicer (UAW) | Plymouth, MN | 02/02/2001 | Axles and Gears.
38,800 | TI Automotive (Wkrs) | New Haven, MI | 02/22/2001 | Automotive Electrical Connectors.
38,801 | Converse, Inc (Wkrs) | North Reading, MA | 02/24/2001 | Casual Footwear.
38,802 | Inman Mills (Co.) | Inman, SC | 02/23/2001 | Woven, Greige Goods.
38,803 | Motion Control Industries (IUE) | Ridgway, PA | 02/23/2001 | Heavy Friction Material (Brakes).
38,804 | Playtex Apparel (Wkrs) | New York, NY | 02/27/2001 | Sleepwear and Daywear (Ralph Lauren).
38,805 | Lenox Crystal (Wkrs) | Mt. Pleasant, PA | 02/28/2001 | Crystal Glassware.
38,806 | Chicago Steel, LLP (Wkrs) | Gary, IN | 02/27/2001 | Coil to Coil Tension Leveling.
38,807 | Heckett Multiserv Harsco (USWA) | Warren, OH | 02/27/2001 | Steel Mill Services.
38,808 | Hit or Miss (Wkrs) | Stoughton, MA | 03/01/2001 | Clothing Distribution & Retail Sales.
38,809 | Blue Mountain Lumber (Wkrs) | Pendleton, OR | 02/16/2001 | Dimension Soft Wood Lumber.
38,810 | Truform Rubber Products (Wkrs) | Hudson, OH | 02/28/2001 | Rubber Parts for Automobiles.
38,811 | Universal Furniture (Co.) | Morristown, TN | 02/10/2001 | Furniture—Bedroom & Dinning Room.
38,812 | Regal Headwear USA (Wkrs) | Gladewater, TX | 02/22/2001 | Headwear.
38,813 | Blount, Inc. (Co.) | Prentice, WI | 02/12/2001 | Hydraulic Log Loaders & Bunchers.
38,814 | C. Hager and Son's Hinge (Wkrs) | Oxford, AL | 02/23/2001 | Hinges.
38,815 | Johnston Industries (Wkrs) | Columbus, GA | 02/15/2001 | Industrial Fabrics.
38,816 | Donaldson Co., Inc. (Co.) | Louisville, KY | 02/22/2001 | Fabrication of Components.
38,817 | GalvPro L.P. (Co.) | Jeffersonville, IN | 02/21/2001 | Hot Dipped Galvanized Sheet.
38,818 | STB Systems 3D-FX Inter. (Wkrs) | El Paso, TX | 02/21/2001 | PC Boards, Computer Games, DVD's
38,819 | New Era Die Co (Co.) | Red Lion, PA | 02/01/2001 | Sharp Edged Cutting Dies.
38,820 | Stanley Fastening Systems (Co.) | Hamliet, NC | 01/29/2001 | Staples.
38,821 | Donohue Industries, Inc. (PACE) | Houston, TX | 02/19/2001 | Newsprint Paper.
38,822 | LTV Steel Co., Inc. (Wkrs) | Cleveland, OH | 02/20/2001 | Hot and Cold Rolled Steel.
38,823 | Danaher/API Gettys (Wkrs) | Racine, WI | 02/16/2001 | Small Electric Motors.
38,824 | Heritage Sportswear (Wkrs) | Marion, SC | 02/05/2001 | Tee Shirts.
38,825 | Thermal Corporation (Wkrs) | Selmer, TN | 02/21/2001 | Brake Calipers for Light Trucks.
38,826 | Giddings and Lewis Mahine (Wkrs) | Fond du Lac, WI | 02/22/2001 | Machinery.
38,827 | Gina Fashions, Inc. (UNITE) | Brooklyn, NY | 02/20/2001 | Ladies' Coats.
38,828 | Genicom Corp. (UE) | Waynesboro, VA | 02/15/2001 | Computer and Printer Repair.
38,829 | Anvil Knitwear, Inc (Wkrs) | Mullins, SC | 02/22/2001 | Cutting T-Shirt Material.
38,830 | Maregaglia USA, Inc. (Wkrs) | Greenville, PA | 02/16/2001 | Welded Stainless Steel Tube and Pipe.
38,831 | Shoe Doctor, Inc (Co.) | Dover, NH | 02/21/2001 | Ladies' Leather Footwear.
38,832 | Decatur Casting (Wkrs) | Decatur, IN | 02/20/2001 | Molds—Iron Castings.
38,833 | O and E Machine Corp. (PACE) | Green Bay, WI | 02/17/2001 | Paper Converting Machine Parts.
38,834 | K-Ybte Reptron (Wkrs) | Gaylord, MI | 02/14/2001 | Electronic Circuit Assemblies.
38,835 | Allegheny Color Corp (Co.) | Ridgway, PA | 02/21/2001 | Green Pigment.
38,836 | Lionel LLC (Co.) | Chesterfield, MI | 02/22/2001 | Toy Trains.
38,837 | WCI Steel, INc. (USWA) | Warren, OH | 01/22/2001 | Hot and Cold Rolled Steel.
38,838 | Centec Roll Corp. (USWA) | Bethlehem, PA | 02/22/2001 | Spin Cast Rolls and Static Pour Rolls.
38,839 | ASARCO, Inc. (Co.) | East Helena, MT | 02/27/2001 | Lead Bullion, Sulfuric Acid.
38,840 | Globe Manufacturing Corp. (Co.) | Fall River, MA | 02/12/2001 | Spandex Fiber—Woven and Nonwoven.
38,841 | Pathfinders USA (Co.) | Sedro Woolley, WA | 02/07/2001 | Soft Luggage.

[FR Doc. 01-9282 Filed 4-13-01; 8:45 am]

BILLING CODE 4510-30-M